DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board.

The meeting will be open to the public, with attendance limited to space available. Individuals who plan to attend virtually and will need special assistance, such as sign language interpretation or other reasonable accommodations, should notify the Contact Person listed below in advance of the meeting.

Name of Committee: Sleep Disorders Research Advisory Board.

Date: June 11, 2020.

Time: 2:00 p.m. to 5:00 p.m.

Agenda: Summary of sleep and circadian research activities at NIH and coordination with other federal agencies; discussion of NIH Sleep Disorders Research Plan Revision.

Place: National Institutes of Health, Rockledge I, 6705 Rockledge Blvd., Bethesda, MD 20892 (Virtual Meeting).

Telephone Access: 1-650-479-3208, Access Code: 627 590 305

Virtual Access: https://nih.webex.com/webappng/sites/nih/dashboard?siteurl=nih, Access Code: 627 590 305.

Contact Person: Michael J. Twery, Ph.D., Director, National Center on Sleep Disorders Research, Division of Lung Diseases, National Heart, Lung, and Blood Institute, National Institutes of Health, 6705 Rockledge Drive, Suite 10042, Bethesda, MD 20892-7952, 301-435-0199 ncsdr@nih.gov.

This notice is being published less than 15 days prior to the meeting due to the timing limitations imposed by the review and funding cycle.

Any interested person may file written comments with the committee by forwarding the statement to the Contact Person listed on this notice. The statement should include the name, address, telephone number and when applicable, the business or professional affiliation of the interested person.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 28, 2020.
Ronald J. Livingston, Jr.,
Program Analyst, Office of Federal Advisory Committee Policy.

[FR Doc. 2020-11880 Filed 6-1-20; 8:45 am]

BILLING CODE 4140-01-P